FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

Astral Freight Services, Inc. (NVO & OFF) 1418 NW 82nd Avenue, #1625, Doral, FL 33126, Officers: Eliane Lessa, Secretary/Director (Qualifying Individual) Ney Lessa, President/Treasurer/Director, Application Type: Add OFF Service

Encore International Corp. (NVO & OFF), 12280 SW 130th Street, #4, Miami, FL 33186, Officers: Fatima G. Lopes, President (Qualifying Individual), Caetano R. Lopes, Vice President, Application Type: Add NVO Service

Eztrans Logistics Ltd. (NVO), 5889 Coopers Avenue Unit 101, Mississauga, ON L4Z 1R9 Canada, Officer: Xin Wang, President (Qualifying Individual), Application Type: New NVO License

Fletmar International Corp. (NVO & OFF), 8121 NW. 60 Street, Miami, FL 33166, Officer: Maria M. Conde, President/Director/Secretary/Treasurer (Qualifying Individual), Application Type: Add NVO Service

G Max Distributors Inc. (NVO), 6979 NW 84 Avenue Miami, FL 33166, Officers: Hugo D. Carmona, Secretary (Qualifying Individual), Victor Lopez, President, Application Type: New NVO & OFF License

Kimberly Ann Martin dba KNJs Shipping Solutions (OFF), 951 Denton Court, Suite 201, Crystal Lake, IL 60014, Officer: Kimberly A. Martin, Sole Proprietor (Qualifying Individual), Application Type: New OFF License

LF Freight USA LLC dba LF Logistics dba LF Freight dba IDS Logistics USA, dba IDS Freight Services, dba AGI Logistics USA, dba AGI Logistics, 230-59 International Airport Center Blvd., #270, Jamaica, NY 11413, Officers: James Minutello, Vice President (Qualifying Individual), Simon Oxley, President, Application Type: Name Change/Trade Name Change

Lion Transport, Inc. dba Amex Logistics (NVO & OFF), 10630 NW 27th Street, #102, Miami, FL 33122, Officers: Silvia E. Bustamante, President/Secretary (Qualifying Individual), Maria Bustamante, Vice President, Application Type: Trade Name Change

Oceanstar Express Company, Inc. (NVO & OFF), 929 E. Pacific Coast Hwy., Wilmington, CA 90744, Officers: Paul D. Conolly, Secretary (Qualifying Individual), Sigmund H. Ting, CEO, Application Type: New NVO & OFF License

Pegasus Maritime, Inc. (NVO & OFF), 250 W. 39th Street, #501 (501-505), New York, NY 10018, Officers: Mohtashum Mahmood, Vice President for Sales and Marketing (Qualifying Individual), Khurram Mahmood, President/Secretary, Application Type: QI Change

Sintra USA LLC (NVO & OFF), 21 Fadem Road, Unit #14, Springfield, NJ 07081, Officers: Alex Tralha, Secretary (Qualifying Individual), Morten Olesen, President, Application Type: New NVO & OFF License

STC Worldwide Inc. (NVO & OFF), 111 Town Square Plaza, Jersey City, NJ 07310, Officers: William F. Woods,Jr., Vice President (Qualifying Individual), Nick Ferlito, Executive Director, Application Type: New NVO & OFF License,

United Transport Services, Corp. (NVO), 6947 NW 82nd Avenue Miami, FL 33166, Officers: Oscar Nova, Secretary (Qualifying Individual), Augusto Villegas, President, Application Type: New NVO License

V R Logistics Incorporated (NVO & OFF), 30 Sheryl Drive, Edison, NJ 08820, Officers: Govind Bhagat, Vice President/Treasurer (Qualifying Individual), Vanita G. Bhagat, President, Application Type: New NVO & OFF License

Dated: October 28, 2011.
Karen V. Gregory,
Secretary.

[FR Doc. 2011-28419 Filed 11-1-11; 8:45 am]

BILLING CODE 6730-01-P